DEPARTMENT OF AGRICULTURE

Food and Nutrition Service

Agency Information Collection Activities: Proposed Collection: Comment Request: FNS-583, Supplemental Nutrition Assistance Program Employment and Training Program Activity Report

AGENCY: Food and Nutrition Service (FNS), USDA.

ACTION: Notice.

SUMMARY: In accordance with the Paperwork Reduction Act, this notice invites the public and other public agencies to comment on a proposed information collection burden for the Supplemental Nutrition Assistance Program (SNAP) Employment and Training (E&T) Program, currently approved under OMB No. 0584-0339. This collection is a revision of a currently approved collection, which proposes to increase the currently approved burden of 21,755 by 4,328 hours. The adjusted burden is 26,083 hours. An increase in the estimated number of annual work registrants accounts for most of the increase.

DATES: Submit written comments on or before September 19, 2011.

ADDRESSES: Comments are invited on: (a) Whether the proposed collection of information is necessary for the proper performance of the functions of the agency, including whether the information will have practical utility; (b) the accuracy of the agency's estimate of burden of the proposed collection of information, including validity of the methodology and assumptions used; (c) ways to enhance the quality, utility, and clarity of the information to be collected; and (d) ways to minimize the burden of the collection of information on those who are to respond, including through the use of appropriate automated, electronic, mechanical, or other technological collection techniques or other form of information technology.

Comments may be sent to Moira Johnston, Chief, Program Design Branch, Program Development Division, Supplemental Nutrition Assistance Program, Food and Nutrition Service, U.S. Department of Agriculture, 3101 Park Center Drive, Room 810, Alexandria, Virginia, 22302. Comments may also be submitted via fax to the attention of Moira Johnston at 703-305-2454 or via e-mail to moira.johnston@fns.usda.gov. Comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Alexandria, Virginia 22302, Room 810.

All responses to this notice will be summarized and included in the request for OMB approval. All comments will also become a matter of public record.

FOR FURTHER INFORMATION CONTACT: Moira Johnston at (703) 305-2515, or send comment to moira.johnston@fns.usda.gov via the Internet.

SUPPLEMENTARY INFORMATION: Title: Employment and Training Program Activity Report.

OMB Number: 0584-0339.

Expiration Date: December 31, 2011.

Type of Request: Revision of a currently approved collection.

Abstract: 7 CFR 273.7(c)(9) requires State agencies to submit quarterly E&T Program Activity Reports containing monthly figures for participation in the program. FNS uses Form FNS-583 to collect participation data. The information collected on the FNS-583 report includes:

• On the first quarter report, the number of work registrants receiving SNAP as of October 1 of the new fiscal year;

• On each quarterly report, by month, the number of new work registrants; the number of able-bodied adults without dependents (ABAWDs) applicants and recipients participating in qualifying components; the number all other applicants and recipients (including ABAWDs involved in non-qualifying activities) participating in components; and the number of ABAWDs exempt under the State agency's 15% exemption allowance;

• On the fourth quarter report, the total number of individuals who participated in each component, which is also sorted by ABAWD and non-ABAWD participants, and the number of individuals who participated in the E&T Program during the fiscal year.

7 CFR 273.7(d)(1)(i)(D) provides that if a State agency will not expend all of the funds allocated to it for a fiscal year, FNS will reallocate unexpended funds to other State agencies during the fiscal year or the subsequent fiscal year as FNS considers appropriate and equitable. After FNS makes initial E&T allocations, State agencies may request more funds, as needed. Typically, FNS receives fourteen such requests per year. The time it takes to prepare these requests is included in the burden. After receiving the State requests, FNS will reallocate unexpended funds as provided above. Following is the revised estimated burden for E&T reporting including the burden for State agencies to request additional funds.

FNS-583 Report

Reporting

Frequency: 4.

Affected Public: State Agency.

Number of Respondents: 53.

Number of Responses: 212.

Estimated Time per Response: 140.41 hours per State agency.

Estimated Total Annual Reporting Burden: 26,038.22 hours.

Recordkeeping

Number of Respondents: 53.

Number of Records: 212.

Number of Hours per Record: 0.136667 hours.

Estimated Total Annual Recordkeeping Burden: 28.97 hours.

Requests for Additional Funds

Reporting

Frequency: 1.

Affected Public: State Agency.

Number of Respondents: 53.

Number of Responses: 14.

Estimated Time per Response: 1.00 hour per request.

Estimated Total Annual Reporting Burden: 14 hours.

Recordkeeping

Number of Respondents: 53.

Number of Records: 14.

Number of Hours per Record: 0.136667 hours.

Estimated Total Annual Recordkeeping Burden: 1.91 hours.

Total Annual Reporting and Recordkeeping Burden: Hours
[Compiling and reporting for the FNS-583 and requests for more funding SNAP employment and training Program activity report]
Section of regulation | Title | Number of respondents | Reports filed annually | Total responses (C × D) | Estimated number of hours per response | Estimated total hours (C × D × F)
A | B | C | D | E | F | G
7 CFR 273.7(c)(8) | Compiling work registration status | 53 | ² 4 | ³ 212 | 75.15 × 212 | 15,931.76
7 CFR 273.24(g) | 15% ABAWD exemptions | ¹ 7 | 4 | 28 | 20.27 × 28 | 567.42
7 CFR 273.7(f) | E&T activities (placements) | 53 | 4 | 212 | 44.02 × 212 | 9,333.
7 CFR 273.7(C)(8) | Preparing FNS-583:
| States filing electronically | 50 | 4 | 200 @ 1 hr | .9716 × 212 | 200
| States filing manually | 3 | 4 | 12 @ .3 hr |  | 6.
Reporting Burden for FNS-583 |  |  |  |  | 140.4116 | 26,038.22
Recordkeeping burden for FNS-583 |  | 53 |  |  | 0.13666 7 × 212 | 28.97
Total Reporting & Recordkeeping for FNS-583 |  |  |  |  |  | 26,067.19
7 CFR 273.7(d)(1)(i)(F) | Preparing requests for more funds after initial allocation | 53 | 0.2641 | 14 @ 1 hr | 1 × 14 | 14
| Recordkeeping burden for additional requests |  |  |  | 14 × 0.136667 | 1.91
Total Reporting & Recordkeeping Burden for Addt'l Funds Requests |  |  |  |  |  | 15.91
Reporting Burden for both FNS-583 and Additional Funds Requests |  |  |  |  |  | 26,052.22
7 CFR 277.12 | Total Recordkeeping Burden for both FNS-583 & Additional Funds Requests | 53 | 4.2641 | 226 | 0.136667 × 226 | 30.88
Total All Burdens |  |  | 53 | 4.2641 | 226 | 26,083.10
¹ Seven of 53 State agencies use 15% exemptions.
² State agencies report burden elements on the FNS-583, submitted quarterly.
³ State agencies submit four FNS-583's annually for a total of 212 submittals plus 14 requests for additional funds for a total of 226 submittals.

Dated: June 16, 2011.
Audrey Rowe,
Administrator, Food and Nutrition Service.

[FR Doc. 2011-18229 Filed 7-19-11; 8:45 am]

BILLING CODE 3410-30-P